DEPARTMENT OF EDUCATION

President's Advisory Commission on Educational Excellence for African Americans

AGENCY: President's Advisory Commission on Educational Excellence for African Americans, U.S. Department of Education.

ACTION: Notice of an Open Meeting.

SUMMARY: This notice sets forth the schedule and agenda of the meeting of the President's Advisory Commission on Educational Excellence for African Americans. The notice also describes the functions of the Commission. Notice of the meeting is required by section 10 (a) (2) of the Federal Advisory Committee Act and intended to notify the public of its opportunity to attend.

DATES: Friday, April 18, 2014.

Time: 9:00 a.m.—4:00 p.m. (EDT).

ADDRESSES: U.S. Department of Education, 400 Maryland Avenue SW., LBJ Auditorium, Washington, DC 20202, 202-260-8197.

FOR FURTHER INFORMATION CONTACT: Kimberly Watkins-Foote, Acting Deputy Director, White House Initiative on Educational Excellence for African Americans, 400 Maryland Avenue SW, Washington, DC 20204; telephone: (202) 260-8197, fax: (202) 401-1971.

SUPPLEMENTARY INFORMATION: The President's Advisory Commission on Educational Excellence for African Americans is established by Executive Order 13621 (July 26, 2012). The Commission is governed by the provisions of the Federal Advisory Committee Act (FACA), (Pub. L 92-463; as amended, 5 U.S.C.A., Appendix 2) which sets forth standards for the formation and use of advisory committees. The purpose of the Commission is to advise the President and the Secretary of Education on matters pertaining to the educational attainment of the African American community, including: (1) The development, implementation, and coordination of educational programs and initiatives at the Department and other agencies to improve educational opportunities and outcomes for African Americans of all ages; (2) efforts to increase the participation of the African American community and institutions that serve the African American community in the Department's programs and in education programs at other agencies; (3) efforts to engage the philanthropic, business, nonprofit, and education communities in a national dialogue on the mission and objectives of this order; and (4) the establishment of partnerships with public, private, philanthropic, and nonprofit stakeholders to meet the mission and policy objectives of its Executive Order.

Agenda

The Commission will discuss possible strategies to meet its duties under its Executive Order and charter. National speakers and experts have been invited to discuss initiatives that are working collaboratively to engage students, families, communities, institutions, corporations and philanthropy in meaningful education reform discussions and solution-building to ensure educational equity for African American students.

Individuals interested in attending the meeting must register by Friday, April 9, 2014 because seating is limited. Please contact Kimberly Watkins-Foote at (202) 260-8197 or by email at Kimberly.Watkins-Foote@ed.gov. Individuals needing accommodations for a disability in order to attend the meeting (e.g., interpreting services, assistive listening devices, or material in alternative format) should notify Kimberly Watkins-Foote, White House Initiative on Educational Excellence on African Americans, at (202) 260-8197, no later than Friday, April 9, 2014. We will attempt to meet requests for such accommodations after this date, but cannot guarantee their availability. The meeting site is accessible to individuals with disabilities.

An opportunity for public comment is available on Friday, April 18, 2014, from 3:30 p.m.-4:00 p.m. Individuals who wish to provide comments will be allowed three to five minutes to speak. Those members of the public interested in submitting written comments may do so by submitting them to the attention of Kimberly Watkins-Foote, White House Initiative on Educational Excellence for African Americans, U.S. Department of Education, 400 Maryland Avenue SW, Washington, DC 20202, by Friday, April 9, 2014.

Records are kept of all Commission proceedings and are available for public inspection at the office of the White House Initiative on Educational Excellence for African Americans, U.S. Department of Education, 400 Maryland Avenue SW, Washington, DC, 20202, Monday through Friday (excluding federal holidays) during the hours of 9:00 a.m. to 5:00 p.m.

Electronic Access to the Document: You may view this document, as well as all other documents of this Department published in the Federal Register, in text or Adobe Portable Document Format (PDF) on the Internet at the following site: www.ed.gov/fedregister/index.html. To use PDF you must have Adobe Acrobat Reader, which is available free at this site. If you have questions about using PDF, call the U.S. Government Printing Office (GPO), toll free at 1-866-512-1800; or in the Washington, DC, area at 202-512-1800.

Dated: March 27, 2014.
Jamienne S. Studley,
Acting Under Secretary, U.S. Department of Education.

[FR Doc. 2014-07408 Filed 4-1-14; 8:45 am]

BILLING CODE 4000-01-P